DEPARTMENT OF ENERGY

Federal Energy Regulatory Commission

[Project No. 13863-000]

Mount Storm Hydro, LLC; Notice of Preliminary Permit Application Accepted for Filing and Soliciting Comments, Motions To Intervene, and Competing Applications

January 6, 2011.

On October 14, 2010, Mount Storm Hydro, LLC filed an application for a preliminary permit, pursuant to section 4(f) of the Federal Power Act (FPA), proposing to study the feasibility of the Mount Storm Pumped Storage Project to be located near Maysville, in Grant County, West Virginia. The sole purpose of a preliminary permit, if issued, is to grant the permit holder priority to file a license application during the permit term. A preliminary permit does not authorize the permit holder to perform any land-disturbing activities or otherwise enter upon lands or waters owned by others without the owners' express permission.

The project would consist of two artificial, lined reservoirs created by the construction of embankments. Two options for the upper reservoir site are proposed. The Option A upper reservoir would be joined with the lower reservoir by approximately 7,600 feet of conduit. Maximum hydraulic head would be 1,590 feet. Equipment would consist of one 200-megawatt (MW), one 100-MW, and one 50-MW reversible pump-turbines, totaling 350 MW of generating capacity, with up to 100 MW of additional pumping capacity, for a total of 450 MW pumping capacity. Annual energy production is projected to be approximately 1,073,100 megawatt-hours (MWh).

The Option B upper reservoir would be joined with the lower reservoir by approximately 13,870 feet of conduit. Maximum hydraulic head would be 1,470 feet. Equipment would consist of one 150-MW, one 100-MW, and one 50-MW reversible pump-turbines, totaling 300 MW of generating capacity, with up to 100 MW of additional pumping capacity, for a total of 400 MW pumping capacity. Annual energy production is projected to be approximately 919,800 MWh.

For either option, the project would interconnect with either of three possible 500-kilovolt (kV) lines on the Allegheny Power system via a new, single-circuit 230-kV line about 4 miles in length. These 500-kV lines include the Greenland Gap-Meadow Brook line, the Mt. Storm-Doubs line, and the planned Trans-Allegheny Interstate line.

Applicant Contact: Matthew Shapiro, CEO, Gridflex Energy, LLC, 1210 W. Franklin St., Ste. 2, Boise, ID 83702; phone: (904) 216-0254, e-mail: mshapiro@gridflexenergy.com.

FERC Contact: John Mudre (202) 502-8902 or john.mudre@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13863-000) in the docket number field to access the document. For assistance, contact FERC Online Support at FERCOnlineSupport@ferc.gov; call toll-free at (866) 208-3676; or, for TTY, contact (202) 502-8659.

Kimberly D. Bose,
Secretary.

[FR Doc. 2011-545 Filed 1-12-11; 8:45 am]

BILLING CODE 6717-01-P